DEPARTMENT OF DEFENSE

Office of the Secretary

Defense Audit Advisory Committee (DAAC); Notice of Federal Advisory Committee Meeting

AGENCY: Under Secretary of Defense (Comptroller), DoD.

SUMMARY: Under the provisions of the Federal Advisory Committee Act of 1972 (5 U.S.C., Appendix, as amended), the Government in the Sunshine Act of 1976 (5 U.S.C. 552b, as amended), and 41 CFR 102-3.150, the Department of Defense announces the following Federal advisory committee meeting of the Defense Audit Advisory Committee will be held.

DATES: Tuesday, January 29, 2013, beginning at 2:30 p.m. and ending at 4:30 p.m.

ADDRESSES: Pentagon, Room 3E754, Washington, DC (escort required, see SUPPLEMENTARY INFORMATION).

FOR FURTHER INFORMATION CONTACT: For meeting information, please contact Ms. Patricia Dees, the Committee's Designated Federal Officer, Office of the Under Secretary of Defense (Comptroller) (OUSD(C)), 1100 Defense Pentagon, Room 3E769, Washington, DC 20301-1100, patricia.dees@osd.mil, (703) 695-7000.

SUPPLEMENTARY INFORMATION:

(a) Purpose

The mission of the DAAC is to provide the Secretary of Defense, through the Under Secretary of Defense (Comptroller)/Chief Financial Officer, independent advice and recommendations on DoD financial management to include financial reporting processes, systems of internal controls, audit processes, and processes for monitoring compliance with relevant laws and regulations.

(b) Agenda

Below is the agenda for the January 29, 2013, DAAC meeting:

2:30 p.m.—Welcome Remarks (HON Robert Hale)

2:35 p.m.—Swearing in of Members for New Term (Ms. Annette Hamm-Brown)

2:40 p.m.—Opening of Committee Meeting (Mr. Ernest Almonte)

2:45 p.m.—Recap of November 2012 Financial Improvement and Audit Readiness Plan Status Report (Mr. Joseph Quinn)

3:30 p.m.—Break

3:45 p.m.—U.S. Marine Corps Audit Lessons Learned (Ms. Ann-Cecile McDermott)

4:25 p.m.—Closing Remarks (Mr. Mark Easton)

4:30 p.m.—Adjournment (Mr. Ernest Almonte)

(c) Accessibility to the Meeting

Pursuant to 5 U.S.C. § 552b and 41 CFR 102-3.140 through 102-3.165, and the availability of space, this meeting is open to the public. Seating is on a first-come basis. Members of the public who wish to attend the meeting must contact Ms. Dees at the number listed in FOR FURTHER INFORMATION CONTACT no later than noon on Thursday, January 24, 2013, to arrange a Pentagon escort. Public attendees should arrive at the Pentagon Metro Entrance on January 29, 2013, by 1:30 p.m., and complete outer security screenings by 1:45 p.m. Please meet your arranged escort at the inner Pentagon Metro Entrance Visitors Center no later than 1:50 p.m. to ensure completion of remaining entrance screenings and arrival at the meeting venue on time. Security screenings require two forms of identification: (1) A government-issued photo I.D., and (2) any type of secondary I.D. which verifies the individual's name (i.e. debit card, credit card, work badge, social security card).

Special Accommodations: Individuals requiring special accommodation to access the public meeting should contact Ms. Dees at least five business days prior to the meeting to ensure appropriate arrangements can be made.

(d) Procedures for Providing Written Comments

Pursuant to 41 CFR 102-3.105(j) and 102-3.140, and section 10(a)(3) of the Federal Advisory Committee Act of 1972, the public or interested organizations may submit written comments to the Committee about its mission and topics pertaining to this public session.

Written comments are accepted until the date of the meeting, however, written comments should be received by the Designated Federal Officer at least five business days prior to the meeting date so that the comments may be made available to the Committee members for their consideration prior to the meeting. Written comments should be submitted to the Designated Federal Officer listed in FOR FURTHER INFORMATION CONTACT. Email submissions should be in Adobe Acrobat or Word formats.

Please note: Because the Committee operates under the provisions of the Federal Advisory Committee Act, as amended, all written comments will be treated as public documents and will be made available for public inspection, up to and including being posted on the OUSD(C) Web site.

Dated: December 13, 2012.
Aaron Siegel,
Alternate OSD Federal Register Liaison Officer, Department of Defense.

[FR Doc. 2012-30429 Filed 12-17-12; 8:45 am]

BILLING CODE 5001-06-P